DEPARTMENT OF THE INTERIOR

Bureau of Indian Affairs

[212A2100DD/AAKC001030/A0A501010.999900253G]

Indian Gaming; Approval of Tribal-State Agreement To Amend Secretarial Procedures

AGENCY: Bureau of Indian Affairs, Interior.

ACTION: Notice.

SUMMARY: This notice announces the approval of the Agreement Between the Mashantucket Pequot Tribe of Indians of Connecticut (Tribe) and the State of Connecticut (State) to amend the Tribe's Secretarial Procedures and Memorandum of Understanding (Amendment).

DATES: The Amendment took effect on September 10, 2021.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under the Indian Gaming Regulatory Act (IGRA), Public Law 100-497, 25 U.S.C. 2701 et seq., upon the occurrence of certain circumstances the Secretary of the Interior (Secretary) shall issue procedures providing for the operation of Class III gaming by an Indian Tribe. Those procedures are effective once issued. On May 31, 1991, the Secretary published a Notice of Final Mashantucket Gaming Procedures (Procedures) in the Federal Register. See 56 FR 24996. On July 27, 2021, the Mashantucket Pequot Tribe (Tribe) submitted proposed amendments to the Tribe's Procedures (Amendment) and Memorandum of Understanding with the State of Connecticut (MOU). On September 10, 2021, the Assistant Secretary—Indian Affairs approved the Amendment and MOU.

Bryan Newland,
Assistant Secretary—Indian Affairs.

[FR Doc. 2021-20933 Filed 9-24-21; 8:45 am]

BILLING CODE 4337-15-P